DEPARTMENT OF TRANSPORTATION

Federal Aviation Administration

14 CFR Part 39

[Docket No. 2001-NM-311-AD; Amendment 39-12585; AD 2001-26-19]

RIN 2120-AA64

Airworthiness Directives; Boeing Model 767 Series Airplanes

AGENCY: Federal Aviation Administration, DOT.

ACTION: Final rule; request for comments.

SUMMARY: This amendment adopts a new airworthiness directive (AD) that is applicable to certain Boeing Model 767 series airplanes. This action requires a one-time inspection for missing, damaged, or incorrectly installed parts in the separation link assembly on the deployment bar of the emergency escape system on the entry or service door, and installation of new parts, if necessary. This action is necessary to prevent failure of an entry or service door to open fully in the event of an emergency evacuation, which could impede exit from the airplane. This condition could result in injury to passengers or crewmembers. This action is intended to address the identified unsafe condition.

DATES: Effective January 18, 2002.

The incorporation by reference of certain publications listed in the regulations is approved by the Director of the Federal Register as of January 18, 2002.

Comments for inclusion in the Rules Docket must be received on or before March 4, 2002.

ADDRESSES: Submit comments in triplicate to the Federal Aviation Administration (FAA), Transport Airplane Directorate, ANM-114, Attention: Rules Docket No. 2001-NM-311-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-311-AD” in the subject line and need not be submitted in triplicate. Comments sent via the Internet as attached electronic files must be formatted in Microsoft Word 97 for Windows or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: John Piccola, Aerospace Engineer, Airframe Branch, ANM-120S, FAA, Seattle Aircraft Certification Office, 1601 Lind Avenue, SW., Renton, Washington 98055-4056; telephone (425) 227-1509; fax (425) 227-1181.

SUPPLEMENTARY INFORMATION: The FAA has received reports that entry and service doors did not open fully during deployment of emergency escape slides on several Boeing Model 767 series airplanes. Most reported incidents occurred during testing; however, one incident occurred during an actual emergency evacuation. Investigation has revealed that this condition is due to failure of the separation link assembly to release the deployment cable from the deployment bar of the emergency escape system on the entry or service door. Such failure to release may occur when the snap ring or washer which hold the separation link in place, or the internal spring, is missing or installed incorrectly. Failure of an entry or service door to open fully during an emergency evacuation could impede exit from the airplane. This condition, if not corrected, could result in injury to passengers or crewmembers.

Explanation of Related Service Information

Boeing has issued Service Letter 767-SL-25-101, dated August 30, 2001. That service letter describes the background of the unsafe condition related to the separation link assembly on the deployment bar of the emergency escape slide system and provides a “Suggested Operator Action” for correcting the condition. The service letter suggests performing an inspection to determine whether snap rings are present and properly installed on the separation link assembly, and replacing any damaged snap ring or installing a new snap ring if one is missing or installed incorrectly. The service letter specifies that maintenance information for the separation link assembly is available in the Boeing 767 Component Maintenance Manual.

Explanation of the Requirements of the Rule

Since an unsafe condition has been identified that is likely to exist or develop on other airplanes of the same type design, this AD is being issued to prevent failure of an entry or service door to open fully during an emergency evacuation. Failure of a door to open fully could impede exit from the airplane, which could result in injury to passengers or crewmembers. This AD requires a one-time detailed visual inspection for missing, damaged, or incorrectly installed parts in the separation link assembly on the deployment bar of the emergency escape system on the entry or service door, and installation of new parts, if necessary. These actions are required to be accomplished according to the procedures and the applicable sections of the Boeing 767 Airplane Maintenance Manual (AMM) and Component Maintenance Manual (CMM) specified in paragraph (a) of this AD.

This AD also requires that, if any missing, damaged, or incorrectly installed part is found in the separation link assembly on the deployment bar of the emergency escape system on any entry or service door, operators must report the results of the inspection to the FAA Certificate Management Office—Boeing. The intent of this reporting requirement is to enable the FAA to determine the number of missing or damaged parts in the affected fleet.

Differences Between This AD and Service Letter

As stated above, Boeing Service Letter 767-SL-25-101 describes the background of the unsafe condition related to the separation link assembly on the deployment bar of the emergency escape slide system. However, this AD requires accomplishment of necessary actions according to certain sections of the AMM and CMM, not according to the “Suggested Operator Action” in the service letter. Because the actions required by this AD differ in key ways from those described in the service letter, the FAA finds it necessary to describe specifically how this AD differs from the service letter. The differences are as follows:

• This AD requires a detailed visual inspection for missing, damaged, or incorrectly installed snap rings, washers, or internal springs in the separation link assembly on the deployment bar of the emergency escape system on the entry or service door. The service letter suggests an inspection for missing, damaged, or incorrectly installed snap rings only. The FAA's decision to require an inspection for missing, damaged, or incorrectly installed washers and internal springs, as well as snap rings, is based on inspections of in-service airplanes which have revealed missing washers and missing or incorrectly installed internal springs.

• Although the service letter recommends accomplishing the inspection during any scheduled or unscheduled maintenance on the service door escape slide, the FAA has determined that a specific compliance time is necessary to ensure that the identified unsafe condition is addressed in a timely manner. In developing an appropriate compliance time for this AD, the FAA considered not only the manufacturer's recommendation (developed with affected operators through the “lead airline” process), but the degree of urgency associated with addressing the subject unsafe condition, and the time necessary to perform the inspection. In light of all of these factors, the FAA finds a 60-day compliance time for completing the required actions to be warranted, in that it represents an appropriate interval of time allowable for affected airplanes to continue to operate without compromising safety.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-311-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-26-19 Boeing: Amendment 39-12585. Docket 2001-NM-311-AD.

Applicability: Model 767 series airplanes, line numbers 1 through 854 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Note 2: Boeing Service Letter 767-SL-25-101, dated August 30, 2001, provides information related to this AD; however, the actions required by this AD are not identical to those in the “Suggested Operator Action” section of that service letter. Where this AD differs from the service letter, this AD prevails.

Compliance: Required as indicated, unless accomplished previously.

To prevent failure of an entry or service door to open fully in the event of an emergency evacuation, which could impede exit from the airplane and result in injury to passengers or crewmembers, accomplish the following:

One-Time Inspection and Corrective Actions

(a) Within 60 days after the effective date of this AD, do a one-time detailed visual inspection for missing, damaged, or incorrectly installed parts in the separation link assembly on the deployment bar of the emergency escape system on the entry or service door, according to the procedures specified in paragraphs (a)(1), (a)(2), (a)(3), (a)(4), (a)(5), and (a)(6) of this AD.

(1) Remove the escape slide pack bustle according to Section 25-66-00 of the Boeing 767 Airplane Maintenance Manual (AMM).

(2) Position the deployment bar of the escape slide to expose the forward and aft separation links, according to Section 25-66-00 of the Boeing 767 AMM and Section 25-66-30 of the Boeing 767 Component Maintenance Manual (CMM), Revision 2, dated November 1, 2000.

(3) Do a detailed visual inspection to determine whether the snap ring, washer, and internal spring of the separation link assembly are installed correctly on both the forward and aft separation links, and to detect any damage of the snap ring, washer, and spring, according to Items 65 and 70 of Section 25-66-30 of the CMM, Revision 2, dated November 1, 2000.

(4) If any snap ring, washer, or internal spring is missing or found damaged or installed incorrectly during the inspection required by paragraph (a)(3) of this AD, before further flight, install a new snap ring, washer, and internal spring according to Section 25-66-30 of the CMM, Revision 2, dated November 1, 2000.

(5) Ensure that the separation links and deployment cables are installed as depicted on placard BAC27TPPS5141 or BAC27TPPS5142, as applicable. Placards are adjacent to each link on the deployment bar. If any separation link or deployment cable is installed incorrectly, before further flight, correct the installation as shown on the applicable placard.

(6) Reinstall the escape slide pack bustle according to Section 25-66-00 of the Boeing 767 AMM.

Note 3: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Reporting Requirement

(b) If there is any missing, damaged, or incorrectly installed part in the separation link assembly on the deployment bar of the emergency escape system on any entry or service door: Submit a report of inspection findings to the FAA Certification Management Office—Boeing, ANM-108B, 1601 Lind Avenue, SW., Renton, Washington 98055-4056; at the applicable time specified in paragraph (b)(1) or (b)(2) of this AD. The report must include: the serial number of the affected airplane, the total number of doors inspected, the number of deployment bars with missing or damaged parts, an identification of what parts are missing or damaged, and the calendar date of the last inspection or test of any emergency escape system with missing or damaged parts. Information collection requirements contained in this AD have been approved by the Office of Management and Budget (OMB) under the provisions of the Paperwork Reduction Act of 1980 (44 U.S.C. 3501 et seq.) and have been assigned OMB Control Number 2120-0056.

(1) For airplanes on which the inspection is accomplished after the effective date of this AD: Submit the report within 10 days after performing the inspection required by paragraph (a) of this AD.

(2) For airplanes on which the inspection has been accomplished before the effective date of this AD: Submit the report within 10 days after the effective date of this AD.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 4: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) The exposure of the forward and aft separation links; inspection for snap ring, washer, and internal spring; and installation of new snap ring, washer, and internal spring; shall be done in accordance with Section 25-66-30 of the Boeing 767 Component Maintenance Manual, Revision 2, dated November 1, 2000, which contains the following effective pages:

Page number | Revision level shown on page | Date shown on page
List of Effective Pages; Page 1 | 2 | Nov. 1, 2000.

(Only the “Highlights” page of Section 25-66-30 shows the appropriate revision level; no other page of this document contains the revision level.) This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on January 18, 2002.

Issued in Renton, Washington, on December 21, 2001.
Ali Bahrami,
Acting Manager, Transport Airplane Directorate, Aircraft Certification Service.

[FR Doc. 02-148 Filed 1-2-02; 8:45 am]

BILLING CODE 4910-13-P